DEPARTMENT OF AGRICULTURE

Agricultural Marketing Service

[Doc. No. AMS-AMS-22-0027]

Access to Fertilizer: Competition and Supply Chain Concerns

AGENCY: Agricultural Marketing Service, USDA.

ACTION: Notice; extension of comment period.

SUMMARY: The Agricultural Marketing Service (AMS) is providing an additional 30 days for comments and information from the public regarding competition-related challenges in the U.S. fertilizer market and other obstacles to producers accessing affordable, responsibly manufactured fertilizer. This notice requests additional comments and information to inform the U.S. Department of Agriculture's (USDA) efforts to expand capacity and maximize investments in the fertilizer market.

DATES: The comment period for the notice originally published on March 17, 2022, at 87 FR 15191, is extended. Comments must be submitted on or before July 15, 2022.

ADDRESSES: All written comments in response to this notice should be posted online at https://www.regulations.gov. Comments received will be posted without change, including any personal information provided. All comments should reference the docket number AMS-AMS-22-0027, the date of submission, and the page number of this issue of the Federal Register. Comments may also be sent to Jaina Nian, Agricultural Marketing Service, USDA, Room 2055-S, STOP 0201, 1400 Independence Avenue SW, Washington, DC 20250-0201. Comments will be made available for public inspection at the above address during regular business hours or via the internet at https://www.regulations.gov.

FOR FURTHER INFORMATION CONTACT: Jaina Nian, Agricultural Marketing Service, at (202) 378-2541; or by email at jaina.nian@usda.gov.

SUPPLEMENTARY INFORMATION: On July 9, 2021, President Biden issued an Executive Order titled “Promoting Competition in the American Economy,” which creates a White House Competition Council and directs Federal agency actions to enhance fairness and competition across America's economy. Among other things, the Executive Order directs the Council and member agencies to “identify and advance any additional administrative actions necessary” to promote competition on an ongoing basis. The Secretary of Agriculture takes note of wide-ranging concern from agricultural producers regarding access to and pricing of fertilizer.

On March 11, 2022, USDA announced ¹ plans for a $250 million investment in grants to support additional fertilizer production for American farmers to address rising costs and spur competition. On May 11, 2022, in conjunction with his visit to an Illinois farm, the Secretary announced ² a doubling of the initial investment to $500 million, among other measures designed to assist farmers.

¹ USDA Announces Plans for $250 Million Investment to Support Innovative American-made Fertilizer to give U.S. Farmers more choices in the Marketplace | USDA.

² $500 Million for U.S. Fertilizer Production Among Measures Announced by Biden | Hoosier Ag Today.

A notice published in the Federal Register on March 17, 2022 (87 FR 15191), requested comments and information from the public to assist AMS in identifying relevant difficulties, including competition concerns, and potential policy solutions for the fertilizer market. This notice established a 60-day comment period, ending May 16, 2022. The comment period was extended by 30 days on May 16, 2022 (87 FR 29731). AMS is once again extending the comment period related to this request for information in order to obtain public input regarding the fertilizer program. Comments must be submitted on or before July 15, 2022.

In particular, and in light of the announced and expanded funding program, AMS seeks additional responses to the following questions, which were listed in the original notice:

• What obstacles exist to the financing and development of new fertilizer capacity that would enhance the competitiveness of fertilizer markets?

• Would new or expanded domestic manufacturing, mining, processing, or alternative fertilizer production capacity help promote access to and affordability of fertilizer for agricultural producers?

• Are there existing “shovel ready” manufacturing, mining, or other processes that could or should be adjusted to facilitate new fertilizer production?

• Are there other potential new entrants in the near or medium-term?

• How might USDA best support investment in new fertilizer capacity in the U.S.?

Melissa Bailey,
Associate Administrator, Agricultural Marketing Service.

[FR Doc. 2022-12821 Filed 6-13-22; 8:45 am]

BILLING CODE P